DEPARTMENT OF TRANSPORTATION

Federal Aviation Administration

Forty-Third Meeting of the SC-224 Airport Security Access Control Systems

AGENCY: Federal Aviation Administration (FAA), U.S. Department of Transportation (DOT).

ACTION: Forty-Third Meeting of the SC-224 Airport Security Access Control Systems.

SUMMARY: The FAA is issuing this notice to advise the public of a meeting of Forty-Third Meeting of the SC-224 Airport Security Access Control Systems.

DATES: The meeting will be held September 29, 2016, 10:00 a.m. to 1:00 p.m.

ADDRESSES: The meeting will be held at: 1150 18th Street NW., Suite 910, Washington, DC 20036.

FOR FURTHER INFORMATION CONTACT: Karan Hofmann at khofmann@rtca.org or (202) 330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Forty-Third Meeting of the SC-224 Airport Security Access Control Systems. The agenda will include the following:

Thursday, September 29, 2016, 10:00 a.m. to 1:00 p.m.

1. Welcome/Introductions/Administrative Remarks

2. Review/Approve Previous Meeting Summary

3. Report from the TSA

4. Report on Safe Skies on Document Distribution

5. Report on TSA Security Construction Guidelines progress

6. Review of DO-230H Sections

7. Action Items for Next Meeting

8. Time and Place of Next Meeting

9. Any Other Business

10. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 29, 2016.
Mohannad Dawoud,
Management & Program Analyst, Partnership Contracts Branch, ANG-A17 NextGen, Procurement Services Division, Federal Aviation Administration.

[FR Doc. 2016-21111 Filed 9-1-16; 8:45 am]

BILLING CODE 4910-13-P